DEPARTMENT OF COMMERCE

International Trade Administration

[A-570-985]

Xanthan Gum From the People's Republic of China: Initiation of Antidumping Duty New Shipper Review

AGENCY: Enforcement and Compliance, International Trade Administration, Department of Commerce.

DATES: Effective Date: August 27, 2015.

SUMMARY: The Department of Commerce (“Department”) is initiating a new shipper review of the antidumping duty order on xanthan gum from the People's Republic of China (“PRC”) with respect to Inner Mongolia Jianlong Biochemical Co., Ltd. (“Inner Mongolia Jianlong”). The period of review (“POR”) for the new shipper review is July 1, 2014, through June 30, 2015.

FOR FURTHER INFORMATION CONTACT: Brandon Farlander, AD/CVD Operations, Office IV, Enforcement and Compliance, International Trade Administration, U.S. Department of Commerce, 14th Street and Constitution Avenue NW., Washington, DC 20230; telephone: (202) 482-0182.

SUPPLEMENTARY INFORMATION:

Background

The Department published the antidumping duty order on xanthan gum from the PRC on July 19, 2013.¹ On July 31, 2015, pursuant to section 751(a)(2)(B)(i) of the Tariff Act of 1930, as amended (the “Act”), and 19 CFR 351.214(c), the Department received a timely request for a new shipper review from Inner Mongolia Jianlong.² On August 11, 2015, the Department received entry data from U.S Customs and Border Protection (“CBP”) relating to this request for a new shipper review.³ In addition, the Department requested that CBP provide entry documents pertaining to the entry that is subject to Inner Mongolia Jianlong's request to confirm certain information reported in the Initiation Request.⁴ The continuation of the new shipper review will be contingent upon confirmation of the relevant information reported in the Initiation Request.

¹ See Xanthan Gum From the People's Republic of China: Amended Final Determination of Sales at Less Than Fair Value and Antidumping Duty Order, 78 FR 43143 (July 19, 2013) (“Order”).

² See Letter to the Secretary of Commerce “Re: Xanthan Gum from the People's Republic of China—Request for New Shipper Review,” dated July 31, 2015 (“Initiation Request”).

³ See Memorandum to the File from Howard Smith, Program Manager, AD/CVD Operations, Office IV regarding “U.S. Customs and Border Protection Data; Customs Query Results for Inner Mongolia Jianlong Biochemical Co., Ltd.,” dated August 18, 2015.

⁴ See Memorandum to Sherri L. Hoffman, Director, AD/CVD/Revenue Policy & Programs, Office of International Trade, U.S. Customs and Border Protection, from Abdelali Elouaradia, Director Office IV, AD/CVD Operations, Enforcement and Compliance, “Request for U.S. Entry Documents—Xanthan Gum from the People's Republic of China (A-570-985),” dated August 18, 2015.

Inner Mongolia Jianlong reported that it was the producer and exporter for the sale of subject merchandise upon which the request for the new shipper review is based.⁵

⁵ See Initiation Request at 1.

Pursuant to section 751(a)(2)(B)(i)(I) of the Act and 19 CFR 351.214(b)(2)(i), Inner Mongolia Jianlong certified that it did not export xanthan gum to the United States during the period of investigation (“POI”).⁶ In addition, pursuant to section 751(a)(2)(B)(i)(II) of the Act and 19 CFR 351.214(b)(2)(iii)(A), Inner Mongolia Jianlong certified that, since the initiation of the investigation, it has never been affiliated with an exporter or producer that exported xanthan gum to the United States during the POI, including those not individually examined during the investigation.⁷ As required by 19 CFR 351.214(b)(2)(iii)(B), Inner Mongolia Jianlong also certified that its export activities were not controlled by the government of the PRC.⁸

⁶ Id. at 2.

⁷ Id.

⁸ Id.

In addition, pursuant to 19 CFR 351.214(b)(2)(iv), Inner Mongolia Jianlong submitted documentation concerning the following: (1) The date on which it first shipped xanthan gum for export to the United States and the date on which the xanthan gum was first entered, or withdrawn from warehouse, for consumption; (2) the volume of its first shipment; and (3) the date of its first sale to an unaffiliated customer in the United States.⁹

⁹ Id. at 2-3 and Exhibit 1.

The Department conducted a CBP database query and confirmed by examining the results of the CBP data query that Inner Mongolia Jianlong's subject merchandise entered the United States during the POR specified by the Department's regulations.¹⁰

¹⁰ See 19 CFR 351.214(g)(1)(i)(A).

Period of Review

Pursuant to 19 CFR 351.214(g)(1)(i)(A), the POR for the new shipper review of Inner Mongolia Jianlong is July 1, 2014, through June 30, 2015.¹¹

¹¹ See 19 CFR 351.214(g)(1)(ii)(B).

Initiation of New Shipper Review

Pursuant to section 751(a)(2)(B) of the Act, 19 CFR 351.214(b), and based on the information on the record, the Department finds that Inner Mongolia Jianlong meets the threshold requirements for initiation of a new shipper review of its shipment of xanthan gum from the PRC.¹² However, if the information supplied by Inner Mongolia Jianlong is later found to be incorrect or insufficient during the course of this proceeding, the Department may rescind the review or apply facts available pursuant to section 776 of the Act, depending upon the facts on the record.

¹² See Memorandum to the File through Abdelali Elouaradia, Director, AD/CVD Operations, Office IV “Initiation of Antidumping New Shipper Review of Xanthan Gum From the People's Republic of China: Inner Mongolia Jianlong Biochemical Co., Ltd. Initiation Checklist,” dated concurrently with this notice.

Pursuant to 19 CFR 351.221(c)(1)(i), the Department will publish the notice of initiation of a new shipper review no later than the last day of the month following the anniversary month or semiannual anniversary month of the order. The Department intends to issue the preliminary results of this review no later than 180 days from the date of initiation, and the final results of this review no later than 90 days after the date the preliminary results are issued.¹³

¹³ See section 751(a)(2)(B)(iv) of the Act; 19 CFR 351.214(i).

It is the Department's usual practice, in cases involving non-market economies (“NME”), to require that a company seeking to establish eligibility for an antidumping duty rate separate from the NME-wide entity to provide evidence of the absence of de jure and de facto government control over the company's export activities.¹⁴ Accordingly, the Department will issue a questionnaire to Inner Mongolia Jianlong which will include a section requesting information with regard to its export activities for the purpose of establishing Inner Mongolia Jianlong's eligibility for a separate rate. The review of Inner Mongolia Jianlong will proceed if the evidence provides sufficient indication that Inner Mongolia Jianlong is not subject to either de jure or de facto government control with respect to its exports of subject merchandise.

¹⁴ See Xanthan Gum From the People's Republic of China: Initiation of Antidumping Duty New Shipper Review, 79 FR 11083, 11084 (February 27, 2014).

The Department will instruct CBP to allow, at the option of the importer, the posting, until the completion of the review, of a bond or security in lieu of a cash deposit for entries of subject merchandise from Inner Mongolia Jianlong in accordance with section 751(a)(2)(B)(iii) of the Act and 19 CFR 351.214(e). Because Inner Mongolia Jianlong certified that it produced and exported the subject merchandise that is the subject of this new shipper review, the Department will apply the bonding privilege only for subject merchandise produced and exported by Inner Mongolia Jianlong.

Interested parties requiring access to proprietary information in this new shipper review should submit applications for disclosure under administrative protective order in accordance with 19 CFR 351.305 and 351.306.

This initiation notice is published in accordance with section 751(a)(2)(B) of the Act and 19 CFR 351.214 and 351.221(c)(1)(i).

Dated: August 21, 2015.
Gary Taverman,
Associate Deputy Assistant Secretary for Antidumping and Countervailing Duty Operations.

[FR Doc. 2015-21250 Filed 8-26-15; 8:45 am]

BILLING CODE 3510-DS-P